DEPARTMENT OF THE INTERIOR

Bureau of Land Management

43 CFR Parts 2930, 3800, 8340, 8370, 8560, and 9260

[WO-250-1220-PA-24 1A]

RIN 1004-AD25

Permits for Recreation on Public Lands; Correction

AGENCY: Bureau of Land Management, Interior.

ACTION: Proposed rule; correction.

SUMMARY: The Bureau of Land Management (BLM) published in the Federal Register of May 16, 2000 (65 FR 31234), a proposed rule on permits for recreation on public lands. In the Preamble of the proposed rule, a section number conversion table inadvertently listed several incorrect new section numbers. This document corrects those numbers.

DATES: The public comment period on the proposed rule ends on July 17, 2000.

FOR FURTHER INFORMATION CONTACT: Lee Larson at (202) 452-5168 as to the substance of the proposed rule, or Ted Hudson at (202) 452-5042 as to procedural matters. Persons who use a telecommunications device for the deaf (TDD) may contact either individual by calling the Federal Information Relay Service (FIRS) at (800) 877-8339, 24 hours a day, 7 days a week.

SUPPLEMENTARY INFORMATION: The Bureau of Land Management (BLM) published in the Federal Register of May 16, 2000 (65 FR 31234), a proposed rule on permits for recreation on public lands. In the Preamble of the proposed rule, the section number conversion table on page 31235 inadvertently listed several incorrect new section numbers. To make the proposed rule clearer, we need to correct those numbers.

In proposed rule FR Doc. 00-12124, published on May 16, 2000 (65 FR 31234), make the following corrections. On page 31235, in the first column, in the Section Conversion Table, for the following old section numbers, the correct new section numbers are:

Old section | New section
* * * * *
§ 8372.2(a) | § 2932.24(a)(1) and (2).
§ 8372.2(b) | § 2932.24(a)(3).
* * * * *
§ 8372.5(a)(1) | § 2932.56(a), 2933.32.
* * * * *
§ 8372.5(f) | § 2932.56(b)(2).
* * * * *

Michael H. Schwartz,
Group Manager, Regulatory Affairs.

[FR Doc. 00-13513 Filed 5-30-00; 8:45 am]

BILLING CODE 4310-84-M